DEPARTMENT OF LABOR

Agency Information Collection Activities; Submission for OMB Review; Comment Request; National Medical Support Notice—Part B

ACTION: Notice of availability; request for comments.

SUMMARY: The Department of Labor (DOL) is submitting this Employee Benefits Security Administration (EBSA)-sponsored information collection request (ICR) to the Office of Management and Budget (OMB) for review and approval in accordance with the Paperwork Reduction Act of 1995 (PRA). Public comments on the ICR are invited.

DATES: The OMB will consider all written comments that the agency receives on or before October 26, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: Pursuant to section 401(a) of the Child Support Performance and Incentive Act of 1998 (CSPIA), the Department of Labor (DOL) and HHS jointly promulgated the National Medical Support Notice Final Rule (NMSN Regulation). The NMSN Regulation, codified at 29 CFR 2590.609-2, simplifies the issuance and processing of medical child support orders; standardizes communication between state agencies, employers, and Plan Administrators; and creates a uniform and streamlined process for enforcement of medical child support to ensure that all eligible children receive the health care coverage to which they are entitled. This ICR addresses the Plan Administrator's responsibilities under the NMSN Regulation to complete Part B of the NMSN. DOL is proposing to require that the addendum to Part B of the NMSN, previously only for those using e-NMSN, be included for all Part B notices. The changes proposed to the form itself are generally formatting changes and additional spaces intended to facilitate completion of the notice and conform to similar changes made to Part A. In this ICR submission, DOL is seeking approval of the current and revised notices to allow states time to transition to the new notices. There will be a one-year transition period where the currently approved version of the NMSN Part B notice (ICR Ref. No. 202102-1210-001) may still be used before respondents will be required to use the revised notice. For additional substantive information about this ICR, see the related notice published in the Federal Register on April 20, 2022 (87 FR 23570).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-EBSA.

Title of Collection: National Medical Support Notice—Part B.

OMB Control Number: 1210-0113.

Affected Public: Private Sector—Businesses or other for-profits.

Total Estimated Number of Respondents: 381,290.

Total Estimated Number of Responses: 19,352,287.

Total Estimated Annual Time Burden: 1,215,658 hours.

Total Estimated Annual Other Costs Burden: $6,400,769.

(Authority: 44 U.S.C. 3507(a)(1)(D))

Dated: September 16, 2022.
Mara Blumenthal,
Senior PRA Analyst.

[FR Doc. 2022-20779 Filed 9-23-22; 8:45 am]

BILLING CODE 4510-29-P